DEPARTMENT OF COMMERCE

International Trade Administration

North American Free-Trade Agreement, Article 1904 NAFTA Panel Reviews; Completion of Panel Review

AGENCY: NAFTA Secretariat, United States Section, International Trade Administration, Department of Commerce.

ACTION: Notice of Completion of Panel Review of the final remand determination made by the U.S. International Trade Administration, in the matter of Alloy Magnesium From Canada , Secretariat File No. USA-CDA-00-1904-06.

SUMMARY: Pursuant to the Order of the Extraordinary Challenge Committee issued October 7, 2004, affirming the final remand determination described above was completed on October 8, 2004.

FOR FURTHER INFORMATION CONTACT: Caratina L. Alston, United States Secretary, NAFTA Secretariat, Suite 2061, 14th and Constitution Avenue, Washington, DC 20230, (202) 482-5438.

SUPPLEMENTARY INFORMATION: On October 7, 2004, the Extraordinary Challenge Committee issued an order which affirmed the final remand opinion of the Binational Panel concerning Alloy Magnesium from Canada. Based on the decision of the Extraordinary Challenge Committee, the Binational Panel members are discharged from their duties effective October 8, 2004.

November 15, 2004.
Caratina L. Alston,
United States Secretary, NAFTA Secretariat.

[FR Doc. E4-3264 Filed 11-18-04; 8:45 am]

BILLING CODE 3510-GT-P